DEPARTMENT OF ENERGY

Federal Energy Regulatory Commission

[Docket No. EG07-15-000; EG07-27-000; EG07-28-000l; EG07-30-000; EG07-31-000; EG07-32-000; EG07-33-000; EG07-34-000; EG07-35-000]

Twin Buttes Wind LLC; Grays Harbor Energy LLC; Les Power Partners, LLC; Whirlwind Energy, LLC; Diablo Winds, LLC; Osceola Windpower, LLC; Airtricity Sand Bluff Wind Farm; LLC; Airtricity Forest Creek Wind Farm, LLC; Dillion Wind LLC; Notice of Effectiveness of Exempt Wholesale Generator or Foreign Utility Company Status

April 4, 2007.

Take notice that during the month of March 2007, the status of the above-captioned entities as Exempt Wholesale Generators or Foreign Utility Companies became effective by operation of the Commission's regulations. 18 CFR 366.7(a).

Philis J. Posey,
Acting Secretary.

[FR Doc. E7-6677 Filed 4-10-07; 8:45 am]

BILLING CODE 6717-01-P